DEPARTMENT OF TRANSPORTATION

Surface Transportation Board

[STB Finance Docket No. 34607]

The Burlington Northern and Santa Fe Railway Company—Trackage Rights Exemption—Union Pacific Railroad Company

Union Pacific Railroad Company (UP) has agreed to grant to The Burlington Northern and Santa Fe Railway Company (BNSF) approximately 224.70 miles of overhead trackage rights between Stockton, CA, at UP's milepost 88.90 on UP's Fresno Subdivision, and Bakersfield, CA, at milepost 313.60 on UP's Mojave Subdivision.¹

¹ The parties entered into a trackage rights agreement on October 27, 2004.

The transaction was scheduled to be consummated on November 4, 2004.

The purpose of the trackage rights is to allow BNSF limited use of the joint trackage for the sole purpose of overhead movement of a limited number of BNSF's trains (up to 6 BNSF trains per day or, subject to capacity and fluidity of operations, potentially up to 8 trains per day), to improve operating efficiency and flexibility in the area.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34607, must be filed with the Surface Transportation Board, 1925 K Street, NW., Washington, DC 20423-0001. In addition, a copy of each pleading must be served on Sarah W. Bailiff, P.O. Box 961039, Fort Worth, TX 76161-0039.

Board decisions and notices are available on our Web site at http://www.stb.dot.gov.

Decided: November 9, 2004.
By the Board, David M. Konschnik, Director, Office of Proceedings.
Vernon A. Williams,
Secretary.

[FR Doc. 04-25393 Filed 11-16-04; 8:45 am]

BILLING CODE 4915-01-P